DEPARTMENT OF COMMERCE

National Oceanic and Atmospheric Administration

[I.D. 011201F]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Groundfish Committee and its Herring Oversight Committee and Advisory Panel (joint with the Atlantic States Marine Fisheries Commission (ASMFC) Herring Section Advisory Panel, in February, 2001 to consider actions affecting New England fisheries in the exclusive economic zone (EEZ). Recommendations from these groups will be brought to the full Council for formal consideration and action, if appropriate.

DATES: The meetings will held between Tuesday, February 6, 2001 and Tuesday, February 13, 2001. See SUPPLEMENTARY INFORMATION for specific dates and times.

ADDRESSES: The meetings will be held in Peabody, MA and Danvers, MA. See SUPPLEMENTARY INFORMATION for specific locations.

FOR FURTHER INFORMATION CONTACT: Paul J. Howard, Executive Director, New England Fishery Management Council; (978)465-0492.

SUPPLEMENTARY INFORMATION:

Meeting Dates and Agendas

Tuesday, February 6, 2001, 9:30 a.m.--Groundfish Oversight Committee Meeting.

Location: Holiday Inn, One Newbury Street, Peabody, MA 01960; telephone: (978) 535-4600.

The Groundfish Oversight Committee will continue development of management alternatives for Amendment 13 to the Northeast Multispecies Fishery Management Plan (FMP). The Committee will continue to refine the area management alternative. It will also consider the recommendations of the Plan Development Team (PDT) with respect to minor adjustments to the status quo management measures, and will provide further advice to the PDT for developing those alternatives. The Committee will also further develop technical measures in the alternatives, such as developing a flexible closure system, days-at-sea counting and allocation alternatives, and other issues. The Committee intends to present these alternatives to the Council at the March 14-15, 2001 Council meeting.

Tuesday, February 13, 2001, 9:30 a.m.--Joint Herring Oversight Committee, Advisory Panel and ASMFC Meeting.

Location: Sheraton Ferncroft Hotel, 50 Ferncroft Road, Danvers, MA 01923; telephone: (978) 777-2500.

The agenda includes discussion of the Atlantic States Marine Fisheries Commission (ASMFC) proposal for an Area 1A landings prohibition until June 1 of each fishing year, as well as possible modification of spawning area boundaries and the spawning tolerance provisions in the ASMFC Atlantic Herring management plan. The committee and panel will review the controlled access/limited entry goals and proposals from recent industry group meetings and develop recommendation to the Council for further action. There will also be a discussion of herring research priorities and possible funding sources.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: January 18, 2001.
Richard W. Surdi,
Acting Director, Office of Sustainable Fisheries, National Marine Fisheries Service.

[FR Doc. 01-2024 Filed 1-23-01; 8:45 am]

BILLING CODE 3510-22-S